COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from Procurement List.

SUMMARY: The Committee is proposing to add to the Procurement List products and services to be furnished by nonprofit agencies employing persons who are blind or have other severe disabilities, and to delete products previously furnished by such agencies.

Comments Must Be Received on or Before: August 10, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

(End of Certification)

The following products and services are proposed for addition to Procurement List for production by the nonprofit agencies listed:

Products

Product/NSN: Belt, General Officers, Leather, Black

8440-00-205-2509—Size 44

8440-00-205-2510—Size 28

8440-00-205-2511—Size 29

8440-00-205-2512—Size 30

8440-00-205-2513—Size 31

8440-00-205-2514—Size 32

8440-00-205-2515—Size 33

8440-00-205-2516—Size 34

8440-00-205-2517—Size 35

8440-00-205-2518—Size 36

8440-00-205-2519—Size 37

8440-00-205-2520—Size 38

8440-00-205-2521—Size 39

8440-00-205-2522—Size 40

8440-00-205-2523—Size 41

8440-00-205-2524—Size 42

8440-00-205-2525—Size 43

NPA: Stone Belt ARC, Inc., Bloomington, Indiana

Contract Activity: Defense Supply Center Philadelphia, Philadelphia, Pennsylvania

Product/NSN: Document Protector, 7510-01-236-0059

NPA: L.C. Industries For The Blind, Inc., Durham, North Carolina

Contract Activity: Office Supplies & Paper Products Acquisition Center, New York, New York

Services

Service Type/Location: Commissary Custodial and Warehousing, Naval Education Training Center, Newport, Rhode Island

NPA: Newport County Chapter, Rhode Island Association for Retarded Citizens, Middletown, Rhode Island

Contract Activity: Defense Commissary Agency (DeCA)—East Region, Virginia Beach, Virginia

Service Type/Location: Custodial Services, Irvine-Tustin U.S. Army Reserve Center, Irvine, California

NPA: Elwyn, Inc, Aston, Pennsylvania—at its facility in Fountain Valley, California

Contract Activity: 63rd Regional Support Command, Los Alamitos, California

Service Type/Location: Document

Destruction

At the following locations and provided by the Nonprofit Agencies indicated:

IRS Service Center, Albuquerque, New Mexico

NPA: Adelante Development Center, Inc, Albuquerque, New Mexico

IRS Service Center, Cheyenne, Wyoming

IRS Service Center, Colorado Springs, Colorado

IRS Service Center, Denver, Colorado

IRS Service Center, Englewood, Colorado

IRS Service Center, Lakewood, Colorado

IRS Service Center, Westminster, Colorado

NPA: Bayaud Industries, Inc., Denver, Colorado

IRS Service Center, Las Vegas, Nevada

NPA: Opportunity Village Association for Retarded Citizens, Las Vegas, Nevada

IRS Service Center, Oakland, California

IRS Service Center, San Jose, California

NPA: Hope Rehabilitation Services, Santa Clara, California

IRS Service Center, Ogden, Utah

NPA: Enable Industries Incorporated, Ogden, Utah

IRS Service Center, Salt Lake City, Utah

NPA: Community Foundation for the Disabled, Inc., Salt Lake City, Utah

IRS Service Center, Phoenix, Arizona

IRS Service Center, Tempe, Arizona.

NPA: The Centers for Habilitation/TCH, Tempe, Arizona

IRS Service Center, Seattle, Washington.

NPA: Northwest Center for the Retarded, Seattle, Washington.

Contract Activity: IRS—Western Area Procurement Branch—APFW, San Francisco, California

Service Type/Location: Janitorial/Custodial.

Basewide, Fort McCoy, Wisconsin.

NPA: Challenge Unlimited, Inc., Alton, Illinois

Contract Activity: Department of the Army, Fort McCoy, Wisconsin.

Deletions

Regulatory Flexibility Act Certification

I certify that the following action will not have a significant impact on a substantial number of small entities. The major factors considered for this certification were:

1. If approved, the action will not result in any additional reporting, recordkeeping or other compliance requirements for small entities.

2. If approved, the action will result in authorizing small entities to furnish the products to the Government.

3. There are no known regulatory alternatives which would accomplish the objectives of the Javits-Wagner-O'Day Act (41 U.S.C. 46-48c) in connection with the products proposed for deletion from the Procurement List.

(End of Certification)

The following products are proposed for deletion from the Procurement List:

Products

Product/NSN: Dropcloth,

8340-01-444-3652,

8340-01-444-3653

NPA: East Texas Lighthouse for the Blind, Tyler, Texas.

Contract Activity: GSA, Southwest Supply Center, Fort Worth, Texas

Sheryl D. Kennerly,
Director, Information Management.

[FR Doc. 03-17596 Filed 7-10-03; 8:45 am]

BILLING CODE 6353-01-P